DEPARTMENT OF TRANSPORTATION

Federal Highway Administration

Morris K. Udall Scholarship and Excellence in National Environmental Policy Foundation

[Docket No. FHWA-2006-25031]

U.S. Institute for Environmental Conflict Resolution; Notice of Final Report of National Outdoor Advertising Control (OAC) Program Assessment and Request for Public Input

AGENCIES: Federal Highway Administration (FHWA), DOT and United States Institute for Environmental Conflict Resolution (U.S. Institute).

ACTION: Notice; request for public input on final OAC program assessment report.

SUMMARY: In July 2006, the FHWA and the U.S. Institute initiated a neutral assessment of the national Outdoor Advertising Control (OAC) program. The U.S. Institute has submitted the completed assessment report to the FHWA and other interested stakeholders in outdoor advertising, as described in this notice, thereby concluding the assessment process. The FHWA has placed the report in the docket (U.S. Department of Transportation Dockets Management System (DMS), at http://dms.dot.gov, under Docket No. FHWA-2006-25031 and online at http://www.fhwa.dot.gov/realestate/out_ad.htm. The FHWA seeks public comment on the assessment report. Comments submitted in response to this notice, together with the assessment report, previously submitted public comments, and other information relevant to the OAC program, will be considered by the FHWA when the agency makes future determinations about OAC program needs and the best methods for addressing those needs.

DATES: Comments must be received on or before May 1, 2007.

ADDRESSES: Mail or hand deliver comments on the report to the U.S. Department of Transportation, Dockets Management Facility, Room PL-401, 400 Seventh Street, SW., Washington, DC 20590, or submit electronically at http://dms.dot.gov or fax comments to (202) 493-2251. All comments should include the docket number that appears in the heading of this document.

All comments received will be available for examination and copying at the above address from 9 a.m. to 5 p.m. e.t., Monday through Friday, except Federal holidays. Those desiring notification of receipt of comments must include a self-addressed, stamped postcard or may print the acknowledgement page that appears after submitting comments electronically. Anyone is able to search the electronic form of all comments received onto any of DOT's dockets by the name of the individual submitting the comment (or signing the comment if submitted on behalf of an association, business, labor union, etc.). You may review DOT's complete Privacy Act Statement in the Federal Register published on April 11, 2000, (Volume 65, Number 70, Pages 19477-78) or you may visit http://dms.dot.gov.

FOR FURTHER INFORMATION CONTACT: Mr. Gerald Solomon, Office of Real Estate Services (HEPR) (202) 366-2037, gerald.solomon@dot.gov, or Ms. Janet Myers, Office of the Chief Counsel (HCC-30) (202) 366-2019, janet.myers@dot.gov, Federal Highway Administration, 400 Seventh Street, SW., Washington, DC 20590. Office hours for the Federal Highway Administration are 7:45 a.m. to 4:15 p.m., e.t., Monday through Friday, except Federal holidays.

SUPPLEMENTARY INFORMATION:

Electronic Access

You may submit or retrieve comments online through the Docket Management System (DMS) at http://dms.dot.gov/submit. The DMS is available 24 hours each day, 365 days a year. Electronic submissions and retrievals help and guidelines are available under the help section of the Web site.

An electronic copy of this document may also be downloaded from the Office of the Federal Register's home page at: http://www.archives.gov and the Government Printing Office's Web page at: http://www.access.gpo.gov/nara.

Background

On July 20, 2006, the FHWA and the U.S. Institute published a notice in the Federal Register (71 FR 41258) announcing the initiation of an assessment of the national outdoor advertising control (OAC) program. The goal of this assessment was to reach out to parties interested in the OAC to identify issues that cause controversy, perspectives of the various stakeholders, and appropriate methods for addressing conflicts and improving program results. As a result of information obtained through the assessment, including the comments submitted in response to this notice, the U.S. Institute compiled an assessment report and provided it to the FHWA. The purpose of this notice is to announce the availability of that report and to request comments on the report.

Under the 1965 Highway Beautification Act (HBA), 23 U.S.C. 131, and various agreements entered into by the FHWA and the States, the States are responsible for implementing the OAC program. The HBA requires control of outdoor advertising signs (signs) near Federal-aid highways in a manner consistent with Federal laws and regulations. Failure by a State to maintain effective control can result in the FHWA withholding of a portion of the State's Federal-aid highway funds. Most States have assigned administrative responsibility for OAC to their transportation agencies. Additional information about the history, relevant laws, and current status of the OAC program appears in the July 20, 2006, Federal Register notice. Other OAC resources include: National Alliance of Highway Beautification Agencies, http://www.nahba.org/; Outdoor Advertising Association of America, http://www.oaaa.org; and Scenic America, http://www.scenic.org.

Since the adoption of the HBA and the implementing regulations, there have been substantial changes in relevant practices, technologies, and local conditions. As a result, many of those affected by the OAC program see an increasing gap between current Federal law and regulations and the needs of States, local communities, advertisers, sign owners, owners of properties on which signs are located, interest groups, and the traveling public.

The U.S. Institute and the FHWA initiated the neutral assessment of the OAC program to identify issues that cause controversy, gather the perspectives of various stakeholders on those issues, and identify potential methods for addressing conflicts in order to improve program results. Assessment activities, carried out by the U.S. Institute and its contractor, The Osprey Group, commenced following publication of the Federal Register notice described above.

Over several months, the assessment team obtained diverse perspectives through interviews, focus groups, and public listening sessions, supplemented by public comment letters filed in the docket. Substantial input was received and was considered by the assessment team when it prepared its OAC program assessment report.

The assessment report identifies a broad range of attitude/relationship, organization, and substantive OAC program issues. Among these are regulatory approaches to new billboard technology; control of sham businesses and sham zoning that permit erection of billboards in non-commercial and industrial areas; future of non-conforming signs; vegetation control in the vicinity of billboards; consistency in administration of regulations and enforcement; future of the 1958 bonus program, enacted prior to the HBA, by PL 85-381, to control outdoor advertising through bonus payments to States that elected to enter into agreements to meet the stricter requirements; increased FHWA flexibility in enforcement mechanisms for failure to maintain effective control; update of Federal-State Agreements that govern States' OAC obligations; Highway Beautification Act scope associated with highways not within the National Highway System; and evaluation of organizational structures and commitments to the OAC program.

Conclusion

The U.S. Institute's report and the comments submitted in response to this notice will provide valuable information to the FHWA and other stakeholders, helping them to better understand the issues surrounding the OAC program and develop effective means to address some of the controversial topics.

(Authority: 23 U.S.C. 131; 20 U.S.C. 5601 et seq.)

Issued on: February 26, 2007.
Christopher L. Helms,
Executive Director, Morris K. Udall Scholarship and Excellence in National Environmental Policy Foundation.
J. Richard Capka,
Federal Highway Administrator.

[FR Doc. 07-982 Filed 3-1-07; 8:45 am]

BILLING CODE 4910-22-P